DEPARTMENT OF ENERGY

Federal Energy Regulatory Commission

[Project No. 13239-002]

Parker Knoll Hydro, LLC; Notice of Environmental Site Review

Take notice that the following hydroelectric applications have been filed with Commission and are available for public inspection:

a. Type of Application: New Major License.

b. Project No.: 13239.

c. Date filed: November 30, 2011.

d. Applicant: Parker Knoll Hydro, LLC.

e. Name of Project: Parker Knoll Pumped Storage Hydroelectric Project.

f. Location: At Parker Mountain, near the Town of Richfield, Piute County, Utah. The project would occupy 458.7 acres of federal land administered by the U.S. Bureau of Land Management.

g. Filed Pursuant to: Federal Power Act, 16 U.S.C. 791(a)-825(r).

h. Applicant Contact: Justin Barker, Parker Knoll Hydro, LLC., 975 South State Highway, Logan, UT 84321; (435) 752-2580.

i. FERC Contact: Matt Buhyoff, matt.buhyoff@ferc.gov, (202) 502-6824.

j. This application is not ready for environmental analysis at this time.

k. The proposed project would be a closed-loop pumped storage system, with an initial fill from the existing Otter Creek reservoir. Parker Knoll would include the following new facilities: (1) An approximately 175-feet-high upper main dam with a crest length of approximately 1,650 feet and one saddle dam; (2) an upper reservoir with a storage capacity of approximately 6,780 acre-feet and a surface area of approximately 110 acres; (3) an approximately 100-feet-high lower dam with a crest length of approximately 1,750 feet and two saddle dams; (4) a lower reservoir with storage capacity of approximately 6,760 acre-feet and a surface area of approximately 130 acres; (5) a 2,390-feet-long and 27-feet-diameter headrace tunnel; (6) a 2,200-feet-long and 27-feet-diameter vertical shaft; (7) a 1,000-feet-long and 27-feet-diameter steel-lined penstock tunnel; (8) a 7,126-feet-long and 35-feet-diameter tailrace tunnel; (9) a powerhouse containing four variable speed, reversible pump-turbine units with a minimum rating of 250 megawatt (MW); (10) an approximately 585-feet by 340-feet substation; (11) a 16-inch diameter and 68,000-feet-long fill pipeline and system; (12) approximately one mile of 345-kV transmission line; and (13) appurtenant facilities. The project would occupy 458.7 acres of federal land and would have an estimated annual generation of 2,630 gigawatt hours.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Environmental Site Review

The Applicant and FERC staff will conduct a project Environmental Site Review beginning at 8:00 a.m. on July 16, 2013. All interested individuals, organizations, and agencies are invited to attend. All participants should meet at the Richfield City Offices, located at 255 S 100 E in Richfield, Utah. All participants are responsible for their own transportation to the site. Four-wheel drive vehicles are recommended. Anyone with questions about the Environmental Site Review should contact Mr. Justin Barker of Parker Knoll Hydro, LLC. at 435-752-2580.

Dated: June 13, 2013.
Kimberly D. Bose,
Secretary.

[FR Doc. 2013-14735 Filed 6-19-13; 8:45 am]

BILLING CODE 6717-01-P